DEPARTMENT OF LABOR

Office of the Secretary

Submission for OMB Review: Comment Request

March 13, 2008.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Darrin King on 202-693-4129 (this is not a toll-free number) / e-mail: king.darrin@dol.gov.

Interested parties are encouraged to send comments to the Office of Information and Regulatory Affairs, Attn: OMB Desk Officer for Departmental Management (DM), Office of Management and Budget, Room 10235, Washington, DC 20503, Telephone: 202-395-7316 / Fax: 202-395-6974 (these are not a toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Office of Small Business Programs.

Type of Review: Extension without change of a currently approved collection.

Title: Small Business Programs Information Management System.

OMB Number: 1290-0002.

Affected Public: Private Sector—Business or other not for-profits.

Estimated Number of Respondents: 1,000.

Estimated Total Annual Burden Hours: 150.

Estimated Total Annual Costs Burden: $0.

Description: The Small Business Programs Information Management System gathers, documents, and manages information for DOL's Office of Small Business Programs' constituency groups. This system allows constituent groups to voluntarily provide information about their organizations. The information is used by DOL to maximize communication with the respective constituency groups regarding relevant small business programs, initiatives, and procurement opportunities; to track and solicit feedback on customer service to group members; and to facilitate registration of group members for DOL-sponsored activities.

Darrin A. King,
Acting Departmental Clearance Officer.

[FR Doc. E8-5379 Filed 3-17-08; 8:45 am]

BILLING CODE 4510-22-P